FEDERAL COMMUNICATIONS COMMISSION

47 CFR Part 2

[ET Docket Nos. 00-258 and 95-18, IB Docket No. 99-81; DA 01-2533]

Introduction of New Advanced Mobile and Fixed Terrestrial Wireless Services; Use of Frequencies Below 3 GHz

AGENCY: Federal Communications Commission.

ACTION: Proposed rule; extension of reply comment period.

SUMMARY: In this document, the Commission extends the period for reply comment in the proceeding that was initiated to explore the possible use of frequency bands below 3 GHz to support the introduction of new advanced mobile and fixed terrestrial wireless services (advanced wireless services) including third generation (3G) and future generations of wireless systems. The Commission extends the period for reply comment at the request of the Cellular Telecommunications & Internet Association (CTIA) in order to allow sufficient time to establish the most complete and well-delivered record possible on which to base an ultimate decision.

DATES: Reply Comments are due on or before November 8, 2001.

ADDRESSES: Send comments and reply comments to the Office of the Secretary, Federal Communications Commission, Washington, DC 20554.

FOR FURTHER INFORMATION CONTACT: John Spencer, 202-418-1310.

SUPPLEMENTARY INFORMATION: This is a summary of the Order Extending Reply Comment Period in ET Docket Nos. 00-258 and 95-18, and IB Docket No. 99-81, DA 01-2533, adopted October 30, 2001, and released October 30, 2001. The complete text of this Order is available for inspection and copying during normal business hours in the FCC Reference Information Center, Courtyard Level, 445 12th Street, SW., Washington, DC, and also may be purchased from the Commission's copy contractor, Qualex International, Portals II, 445 12th Street, SW., Room CY-B402, Washington, DC 20554.

1. The Commission extends the reply comment period established in the Order Extending Comment Period, in this proceeding (See Further Notice of Proposed Rulemaking at 66 FR 47618, September 13, 2001, and Order Extending Comment Period at 66 FR 51905, October 11, 2001) from November 5, 2001, to November 8, 2001.

Ordering Clause

2. Pursuant to section 1.46 of the Commission's Rules, 47 CFR 1.46, the October 26, 2001, request of CTIA to extend the deadline for filing reply comment in this proceeding is granted.

3. This action is taken under delegated authority pursuant to sections 0.131 and 0.331 of the Commission's Rules, 47 CFR 0.131, 0.331.

Federal Communications Commission.
Thomas J. Navin,
Deputy Chief, Policy Division, Wireless Telecommunications Bureau.

[FR Doc. 01-27783 Filed 11-5-01; 8:45 am]

BILLING CODE 6712-01-P